DEPARTMENT OF THE INTERIOR

Fish and Wildlife Service

[FWS-R4-R-2010-N050; 40136-1265-0000-S3]

Tennessee National Wildlife Refuge, Henry, Benton, Decatur, and Humphreys Counties, TN

AGENCY: Fish and Wildlife Service, Interior.

ACTION: Notice of availability: Draft comprehensive conservation plan and environmental assessment; request for comments.

SUMMARY: We, the Fish and Wildlife Service (Service), announce the availability of a draft comprehensive conservation plan and environmental assessment (Draft CCP/EA) for Tennessee National Wildlife Refuge (NWR) for public review and comment. In this Draft CCP/EA, we describe the alternative we propose to use to manage this refuge for the 15 years following approval of the final CCP.

DATES: To ensure consideration, we must receive your written comments by July 7, 2010.

ADDRESSES: Send comments, questions, and requests for information to: Ms. Tina Chouinard, Refuge Planner, Fish and Wildlife Service, 6772 Highway 76 South, Stanton, TN 38069. The Draft CCP/EA is available on compact disk or in hard copy. You may also access and download a copy of the Draft CCP/EA from the Service's Internet Web Site: http://southeast.fws.gov/planning/ under “Draft Documents.”

FOR FURTHER INFORMATION CONTACT: Ms. Tina Chouinard; telephone: 731/432-0981.

SUPPLEMENTARY INFORMATION:

Introduction

With this notice, we continue the CCP process for Tennessee NWR. We started the process through a notice in the Federal Register on April 2, 2008 (73 FR 17994).

On December 28, 1945, President Harry S. Truman signed Executive Order No. 9670 establishing the Tennessee NWR. The following day, the Department of the Interior and the Tennessee Valley Authority (TVA) entered an agreement that the lands would henceforth be reserved for use as a wildlife refuge. Tennessee NWR runs along 65 miles of the Tennessee River in Henry, Benton, Decatur, and Humphreys Counties, Tennessee. The refuge is comprised of three units: Duck River Unit (26,738 acres), Big Sandy Unit (21,348 acres), and Busseltown Unit (3,272 acres), for a total acreage of 51,358 acres.

Big Sandy is the northern-most unit, located at the junction of the Big Sandy and Tennessee Rivers, about 12 miles north of the town of Big Sandy. Most of the lands on this unit are upland and forested with little wetland management capabilities. Waterfowl management activities primarily consist of providing sanctuary on the waters and mudflats of Kentucky Lake and agriculture crops for foraging habitats.

The Duck River Unit is located at the junction of the Duck and Tennessee Rivers in Humphreys and Benton Counties. A wide variety of habitats is available for waterfowl and other waterbirds, including agriculture, moist-soil, mudflats, forested wetlands, and scrub-shrub.

The Busseltown Unit is located along the western bank of the Tennessee River, in Decatur County roughly 5 miles northeast of Parsons, Tennessee. It is primarily managed for waterfowl by providing agriculture foraging habitats. Some moist-soil and scrub-shrub habitats are also available.

All three units were used extensively for agriculture in the 1800s and early 1900s. The two northern units were named for the rivers which run through them, while the much smaller Busseltown Unit was named after Johnse Bussel, an earlier settler to the area who established a store and home in the area that later became known as Busseltown. The mixture of open water, wetlands, woodlands, croplands, and grasslands creates a mosaic of wildlife-rich habitats. The refuge provides valuable wintering habitat for migrating waterfowl. It also provides habitat and protection for threatened and endangered species.

The establishing and acquisition authorities for Tennessee NWR include the Migratory Bird Conservation Act (16 U.S.C. 715-715r) and Fish and Wildlife Coordination Act (16 U.S.C. 661-667). In addition, Public Land Order 4560 identified the purposes of the refuge to be “to build, operate and maintain sub-impoundment structures; produce food crops or cover for wildlife; to regulate and restrict hunting, trapping and fishing and to otherwise manage said lands and impoundment areas for the protection and production of wildlife and fish populations” (Public Land Order 1962).

The refuge also supports an abundance of wildlife, including over 650 species of plants, 303 species of birds, and 280 species of mammals, fish, reptiles, and amphibians.

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Significant issues addressed in this Draft CCP/EA include: (1) Managing for invasive species, migratory birds, and species of special concern; (2) managing mixed pine upland and bottomland hardwood forests; (3) enhancing wildlife-dependent public uses, especially environmental education and interpretation programs; (4) addressing climate change; and (5) increasing permanent staff.

CCP Alternatives, Including Our Proposed Alternative

We developed four alternatives for managing the refuge and chose Alternative D as the proposed alternative. A full description of each alternative is in the Draft CCP/EA. We summarize each below:

Alternative A—Current Management (No Action)

In general, Alternative A would maintain current management direction. Public use patterns would remain relatively unchanged from those that exist at present.

The refuge would continue to contribute to healthy and viable native wildlife and fish populations representative of the Lower Tennessee-Cumberland River Ecosystem, with special emphasis on waterfowl and other migratory birds.

We would continue the moist-soil management program on about 1,600 acres. There would be no active forest management, but we would continue evaluation of past forest treatments for increasing habitat for priority species on the Big Sandy peninsula. The cooperative farming and refuge staff (force account) program would continue cultivating crops on about 3,000 acres for the benefit of waterfowl and resident game species. Bottomland hardwood forest habitat would not be actively managed, but we would continue current water management of about 5,160 acres of impounded water management units.

Working with partners, we would continue to provide mudflats during August-September for shorebird and early migratory waterfowl, scrub-shrub habitat, and desirable aquatic plants. We would also continue annual spraying and biological control of alligatorweed, privet species, sesbania, purple loosestrife, encroaching woody vegetation, spatterdock, and parrot feather. Mechanical control (i.e., mowing and disking) of certain upland plants would be conducted as needed. There would be no active monitoring, management, or education related to climate change.

We would continue to manage cultural resources consistent with Section 106 of the National Historic Preservation Act. The refuge's size and boundaries would not change.

Under Alternative A, we would continue to provide visitor services under the existing public use review and development plan approved in 1986. We would continue to allow managed, limited hunting for deer, turkey, squirrel, raccoon, and resident Canada goose, as well as to provide opportunities for fishing. We would continue to offer opportunities for wildlife observation and photography throughout the refuge, and to provide environmental education services to the public, including limited visits to schools, environmental education workshops, and on-site and off-site environmental education programs.

Under Alternative A, we would maintain the current staff of 13, including the refuge manager, deputy refuge manager, two refuge biologists, refuge ranger, refuge planner, two law enforcement officers, three heavy equipment operators, administrative officer, and assistant refuge manager. The current office, bunkhouse, storage, and maintenance shop at the Duck River Unit and the existing inventory of heavy equipment, tractors, refuge roads, levees, water control structures, and pumps would be maintained. We would maintain our existing partnerships.

Alternative B—Public Use Emphasis

In general, Alternative B would emphasize enhanced public use on the refuge. With regard to native fish and wildlife, this alternative would be quite similar to Alternative A in many respects. Alternative B would differ from Alternative A by developing partnerships with non-governmental organizations and the public in efforts to inventory non-game and aquatic species and possibly in certain habitat management activities.

Alternative B would be very similar to the actions described under Alternative A in aiming to maintain existing habitat management programs, practices, and actions.

Under Alternative B, we would increase water management efforts toward increasing sport fishing opportunities within the 5,160 acres of impoundments. We would also offer additional education and interpretation of importance of early drawdowns of Kentucky Lake to shorebirds and other migratory birds.

Under Alternative B, we would provide additional education and interpretation of invasive species for the public. With regard to climate change, under Alternative B the refuge would relate climate change to the Service's wildlife mission in environmental education programs. However, there would still be no active monitoring or management related to climate change.

Under Alternative B, we would manage cultural resources consistent with Section 106 of the National Historic Preservation Act. We would prioritize areas for possible minor boundary expansions to accommodate and better serve refuge visitors.

Alternative B would emphasize wildlife-dependent public use more than any other alternative. Under Alternative B, within 5 years of CCP approval, we would draft, approve, and begin to implement a new visitor services plan using the current format for such documents. Hunting opportunities would be increased for deer and maintained for turkey, squirrel, raccoon, and resident Canada goose, and new hunts would be considered.

We would provide opportunities for fishing by furnishing adequate launching facilities, bank fishing areas, and over the life of the CCP, provide additional ADA-compliant piers to accommodate anglers of all abilities.

We would continue to offer opportunities for wildlife observation and photography throughout the refuge. We would also aim to increase wildlife observation/photography opportunities with blinds and a boardwalk, and within 2 years of CCP approval, open a seasonal wildlife drive in the Duck River Bottoms. We would continue to provide environmental education services to the public, including limited visits to schools, workshops, and on-site and off-site programs, as well as work with partners to expand environmental education facilities and opportunities on and near the refuge. The existing interpretive program would be expanded.

Under Alternative B, within 5 years of CCP approval, we would work with partners to construct a combined headquarters and visitor center, incorporating “green” technology, on the Big Sandy Unit. Within 15 years of CCP approval, we would build a visitor contact station at the Duck River Unit. Alternative B would maintain the office, storage, and maintenance facilities at Duck River Unit, and the existing inventory of heavy equipment, tractors, refuge roads, levees, water control structures, and pumps. The bunkhouse would also be replaced.

Under Alternative B, we would maintain our current staff of 13. Four new staff members would be added, including two refuge rangers, one law enforcement officer, and one office assistant. Under Alternative B, we would strengthen our volunteer programs, friend's group, and partnerships by investing an increased portion of staff time into nurturing these promising relationships.

Alternative C—Wildlife Management Emphasis

Alternative C aims to intensify and expand wildlife and habitat management on the refuge. This would increase benefits for wildlife species, which fulfills the refuge purpose and goals. Public use opportunities and our efforts to provide visitor services would remain approximately as they are now.

Concerning waterfowl, under Alternative C, we would provide adequate habitats to meet the foraging needs of 182,000 ducks for 110 days and other habitats that are needed for loafing, roosting, molting, etc. This is a 50 percent increase in the number of ducks under Alternatives A and B. Alternative C would also maintain seasonally closed waters, roads, and land areas to provide sanctuary for waterfowl. In addition, Alternative C would increase seasonally closed areas, including the closure of Busseltown and Honey Point Ferry roads.

Alternative C would provide adequate corn and wheat browse to meet the needs of about 16,000 migratory Canada geese for 90 days, the same as Alternatives A and B. In contrast with these two alternatives, however, Alternative C would also readjust population levels as suggested by future needs; that is, it would follow adaptive management principles.

To promote wood duck reproduction, Alternative C would maintain 200-250 nesting boxes (compared to 175 boxes in Alternatives A and B), expanding the program to the Big Sandy and Busseltown Units. It would also continue to meet the banding goals of the Mississippi Flyway Council.

Under this alternative, we would create and enhance existing habitat for secretive marshbirds, sufficient to support 25 nesting territories for king rail pairs. Within 10 years of CCP approval, we would provide at least 200-300 acres of foraging sites in multiple impoundments for both northbound and southbound shorebirds during migration, and we would conduct population and habitat surveys to evaluate shorebird use and invertebrate densities within managed and unmanaged habitat. To benefit long-legged wading birds, as under Alternative A, we would continue to provide for both secure nesting sites and ample foraging habitat.

While neither Alternative A nor B would conduct active management for grassland birds, Alternative C would consider providing 50-100 acres in 1-3 tracts for Henslow's sparrow and other grassland species in the Big Sandy Unit. We would strive to increase the quality of forest habitat to provide for a sustainable increase in the populations of priority forest interior migratory birds. We would also continue to monitor and protect bald eagle nesting sites and count wintering bald eagles on the refuge.

We would continue to manage populations of resident game species such as deer, turkey, squirrel, raccoon, and resident Canada goose, as under Alternatives A and B.

Within 10 years of CCP approval, we would develop and implement more baseline inventories for non-game mammals, reptiles, amphibians and invertebrates. Similarly, within 15 years of CCP approval, we would aim to determine species composition, distribution, and relative abundance of fishes and invertebrates occurring on the refuge.

Alternative C would continue to protect all Federal listed species, in particular the Indiana and gray bats and listed mussels, under the Endangered Species Act. In addition, it would endeavor to determine the distribution and abundance of Indiana and gray bats and listed mussels on the refuge and protect and enhance, if possible, the habitat needed by these species.

As necessary, we would continue and expand nuisance animal species control using approved techniques to help achieve refuge conservation goals and objectives.

Alternative C would expand or intensify existing habitat management programs, practices, and actions. We would improve the moist-soil management program on about 1,600 acres by expanding the invasive exotic plant control program, water management capabilities, and the use of management techniques that set back plant succession. In cooperation with partners, we would reactivate the forest management program for the benefit of priority forest interior migratory birds and resident game species.

Over the life of the CCP, Alternative C would eliminate cooperative farming and reduce total farmed acreage, while increasing the acreage of unharvested cropland through force account or contract farming to meet foraging needs of waterfowl and habitat for other native species. It would also increase acreage of hard mast producing bottomland hardwood forest species.

We would increase water management capabilities by subdividing existing impoundments, creating new impoundments, and increasing water supply (i.e., pumps, wells, and structures) for migratory birds. Working with partners, we would continue to provide mudflats during August-September for shorebird and early migratory waterfowl, scrub-shrub habitat, and desirable aquatic plants, as in Alternative A.

We would expand control efforts of invasive species through active methods of removal. These methods would work towards reducing infestations and eliminating populations whenever feasible. In response to possible adverse impacts from climate change, we would monitor wildlife and habitats and utilize adaptive management.

Under Alternative C, we would continue to manage cultural resources consistent with Section 106 of the National Historic Preservation Act. We would also target minor boundary expansions to reduce adjacent threats to the refuge and to expand habitat management opportunities.

We would continue to provide visitor services under the existing public use review and development plan approved in 1986. For the duration of the CCP, we would manage game populations to maintain quality hunting opportunities while maintaining habitat for federal trust species. We would also continue to provide fishing opportunities, but find partners to help maintain boat ramps and associated facilities.

We would also continue to offer opportunities for wildlife observation and photography throughout the refuge, and to provide environmental education services to the public, including limited visits to schools, environmental education workshops, and on-site and off-site environmental education programs.

Within 5 years of CCP approval, we would work with partners to construct a combined headquarters and visitor center, incorporating “green” technology, on the Big Sandy Unit, and within 15 years of CCP approval, would build a visitor contact station at the Duck River Unit. Alternative C would maintain the storage and maintenance facilities at Duck River Unit, and the existing inventory of heavy equipment, tractors, refuge roads, levees, water control structures, and pumps. The bunkhouse would also be replaced. Lastly, this alternative would add one open and one enclosed equipment storage facility, one no-till grain drill, one self-propelled spray rig, low ground pressure dozer, one aquatic excavator, and one 24-inch centrifugal pump and engine.

Under Alternative C, we would maintain our current staff of 13. We would also add five staff positions, including one forester, one forestry technician, two heavy equipment operators, and one tractor operator. We would maintain our existing partnerships.

Alternative—Enhanced Wildlife Management and Public Use Program (Proposed Alternative)

Alternative D, our proposed alternative, would enhance both our wildlife management and public use programs. In general, Alternative D is very similar to Alternative C on the wildlife and habitat goals and objectives, and very similar to Alternative B on the public use goal and objectives.

Concerning waterfowl, under Alternative D, we would provide adequate habitats to meet the foraging needs of 121,000-182,000 ducks (or a range specified by the North American Waterfowl Management Plan) for 110 days and other habitats that are needed for loafing, roosting, molting, etc. This objective includes a range that matches Alternative A at the low end and Alternative C at the high end. As in the three previous alternatives, Alternative D would also maintain seasonally closed waters, roads, and lands to provide sanctuary for waterfowl. In addition, Alternative D would increase seasonally closed areas, including closure of Busseltown and Honey Point Ferry Roads.

Alternative D would provide adequate corn and wheat browse to meet the needs of about 16,000 migratory Canada geese for 90 days, the same as Alternatives A and B. In contrast with these two alternatives however (but like Alternative C), Alternative D would also readjust population levels as suggested by future needs; that is, it would follow adaptive management principles.

To promote wood duck reproduction, Alternative D would maintain 200-250 nesting boxes (compared to 175 boxes in Alternatives A and B), expanding the program to the Big Sandy and Busseltown Units. It would also continue to meet the banding goals of the Mississippi Flyway Council.

Under this alternative, we would create and enhance existing habitat for secretive marshbirds, sufficient to support 15-25 nesting territories for king rail pairs, which is more than Alternatives A and B, but somewhat less than Alternative C. Within 10 years of CCP approval, the refuge would provide at least 100 acres of foraging sites in multiple impoundments for both northbound and southbound shorebirds during migration, and would conduct population and habitat surveys to evaluate shorebird use and invertebrate densities within managed and unmanaged habitat. To benefit long-legged wading birds, as in each of the alternatives, we would continue to provide for both secure nesting sites and ample foraging habitat.

Alternative D, like Alternative C, would consider providing 50-100 acres in 1-3 tracts for Henslow's sparrow and other grassland species in the Big Sandy Unit. We would strive to increase the quality of forest habitat to provide for a sustainable increase in the populations of priority forest interior migratory birds. We would also continue to monitor and protect bald eagle nesting sites and count wintering bald eagles on the refuge.

As in each of the alternatives, we would continue to manage populations of resident game species such as deer, turkey, squirrel, raccoon, and resident Canada goose.

To learn more about all wildlife species at the refuge, within 10 years of CCP approval, we would develop and implement more baseline inventories for non-game mammals, reptiles, amphibians and invertebrates. Similarly, within 15 years of CCP approval, we would aim to determine species composition, distribution and relative abundance of fishes and invertebrates occurring on the refuge. We would try to develop partnerships with other agencies, non-governmental organizations, and the public in efforts to inventory non-game and aquatic species and participate in the implementation of appropriate management activities.

Alternative D would continue to protect all Federal listed species, in particular the Indiana and gray bats and listed mussels, under the Endangered Species Act. In addition, it would endeavor to determine the distribution and abundance of Indiana and gray bats and listed mussels on the refuge and protect and enhance, if possible, the habitat needed by these species.

As necessary, and as under Alternative C, we would continue and expand nuisance animal species control using approved techniques to help achieve refuge conservation goals and objectives.

Alternative D would expand or intensify existing habitat management programs, practices, and actions. We would improve the moist-soil management program on about 1,600 acres by expanding the invasive exotic plant control program, water management capabilities, and the use of management techniques that set back plant succession. In cooperation with partners, we would reactivate the forest management program on the refuge for the benefit of priority forest interior migratory birds and resident game species. Alternative D would incorporate a comprehensive fire management program into upland forest habitat.

Over the life of the CCP, Alternative D would redirect management actions to increase the acreage of unharvested cropland to meet foraging needs of waterfowl and habitat for other native species. It would also increase acreage of hard mast producing bottomland hardwood forest species.

We would increase water management capabilities by subdividing existing impoundments, creating new impoundments, and increasing water supply (i.e., pumps, wells, and structures) for migratory birds. While doing this, we would also make a concerted effort to accommodate sport fishing opportunities where and when circumstances allow.

Working with partners, we would continue to provide mudflats during August-September for shorebird and early migratory waterfowl, scrub-shrub habitat, and desirable aquatic plants, as under Alternatives A and C. As under Alternative B, we would also provide additional education and interpretation of importance of early drawdowns of Kentucky Lake.

We would expand control efforts of invasive species through active methods of removal. These methods would work towards reducing infestations and eliminating populations whenever feasible. Additional education and interpretation of invasive species would be provided.

In response to possible adverse impacts from climate change, we would monitor wildlife and habitats and utilize adaptive management. We would also relate climate change to the Service's wildlife mission in environmental education programs and pursue opportunities for carbon sequestration with native trees.

Alternative D would continue to manage cultural resources consistent with Section 106 of the National Historic Preservation Act. Alternatives A, B, and C would also do so, but only Alternative D would begin to implement a cultural resources management plan within 5 years of CCP approval. Alternative D would pursue and prioritize minor boundary expansions to: (1) Reduce adjacent threats to the refuge; (2) expand habitat management opportunities; and (3) accommodate refuge visitors.

Under Alternative D, within 5 years of CCP approval, we would draft, approve, and begin to implement a new visitor services plan. Hunting opportunities would be increased for deer, and we would continue to allow managed, limited hunting for turkey, squirrel, raccoon, and resident Canada goose. No youth waterfowl hunt or rabbit and quail hunting would be considered. We would provide opportunities for fishing by furnishing adequate launching facilities, bank fishing areas, and over the life of the CCP, would provide additional piers to accommodate anglers of all abilities.

We would aim to increase wildlife observation/photography opportunities with blinds and a boardwalk, and within 2 years of CCP approval, open a seasonal wildlife drive in the Duck River Bottoms. We would continue to provide environmental education services to the public, including limited visits to schools, workshops, and on-site and off-site programs, as well as work with partners to expand environmental education facilities and opportunities on and near the refuge. The existing interpretive program would be expanded.

Under Alternative D, within 5 years of CCP approval, we would work with partners to construct a combined headquarters and visitor center, incorporating “green” technology, on the Big Sandy Unit. Within 15 years of CCP approval, we would build a visitor contact station at the Duck River Unit. Alternative D would maintain the storage and maintenance facilities at the Duck River Unit, and the existing inventory of heavy equipment, tractors, refuge roads, levees, water control structures, and pumps. The bunkhouse would also be replaced. Lastly, this alternative would add one open and one enclosed equipment storage facility, one no-till grain drill, one self-propelled spray rig, low ground pressure dozer, one aquatic excavator, and one 24-inch centrifugal pump and engine.

Under Alternative D, we would expand our current staff by 12, including forester, forestry technician, two engineering equipment operators, a tractor operator, two refuge rangers, a law enforcement officer, an assistant manager, two biological technicians, and an office assistant. Under Alternative D, as in Alternative B, we would strengthen our volunteer programs, friend's group, and partnerships by investing an increased portion of staff time into nurturing these promising relationships.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: April 22, 2010.
Mark J. Musaus,
Acting Regional Director.

[FR Doc. 2010-13520 Filed 6-4-10; 8:45 am]

BILLING CODE 4310-55-P